ADVISORY COUNCIL ON HISTORIC PRESERVATION

Notice Seeking Public Input on Advisory Council on Historic Preservation Formal Comments Regarding the Bureau of Land Management's Mohave Valley Shooting Range (AZA-31733) Proposed Resource Management Plan Amendment and Recreation and Public Purpose Act Disposal Near Bullhead City, AZ

AGENCY: Advisory Council on Historic Preservation.

ACTION: Notice Seeking Public Input on Advisory Council on Historic Preservation Formal Comments Regarding the Bureau of Land Management's Mohave Valley Shooting Range (AZA-31733) Proposed Resource Management Plan Amendment and Recreation and Public Purpose Act Disposal Near Bullhead City, Arizona.

SUMMARY: The Advisory Council on Historic Preservation is soliciting public comment in preparation for issuing formal comments, under the National Historic Preservation Act, to the Bureau of Land Management regarding its intent to amend a land use management plan to allow for the disposal of the land under the authority of the Recreation and Public Purpose Act for the construction of a shooting range near Bullhead City, Arizona.

DATES: Comments must be received on or before October 28, 2008.

ADDRESSES: Address all comments to John L. Nau, III, Chairman, c/o Nancy Brown, Advisory Council on Historic Preservation, 1100 Pennsylvania Avenue, NW., Room 803, Washington, DC 20004. Comments may also be submitted by electronic mail to TSProject@achp.gov. Please include “BLM Mohave Valley Shooting Range” in the subject line of the message.

FOR FURTHER INFORMATION CONTACT: Nancy Brown, (202) 606-8582. E-mail: Nbrown@achp.gov. Further information may be found on the ACHP Web site: http://www.achp.gov.

SUPPLEMENTARY INFORMATION: The Advisory Council on Historic Preservation (ACHP) is an independent federal agency, established by the National Historic Preservation Act (NHPA), which promotes the preservation, enhancement, and productive use of our nation's historic resources, and advises the President and Congress on national historic preservation policy. Among other things, the ACHP issues formal comments to federal agencies per Section 106 of the NHPA.

Section 106 of the NHPA requires federal agencies to take into account the effects of their undertakings on historic properties and afford the ACHP a reasonable opportunity to comment on such undertakings. The procedures in 36 CFR part 800 define how federal agencies meet these statutory responsibilities. When a federal agency is unable to reach an agreement to avoid, minimize, or mitigate the adverse effects of its undertaking, it must seek the formal comments from the ACHP per 36 CFR part 800.

On September 18, 2008, the ACHP received a letter from the Bureau of Land Management (BLM) informing the ACHP that the BLM has terminated the consultation toward reaching such an agreement with regard to the undertaking described below, and has requested the formal comments of the ACHP. The ACHP by regulation has 45 days from receipt of a notice of termination to provide its comments to the director of the BLM and other consulting parties. This notice seeks public input on the ACHP formal comments that will be sent to the BLM.

Undertaking Summary

The Bureau of Land Management has proposed to authorize the construction of a firearm shooting range (undertaking) on BLM-managed land near Bullhead City, Arizona. The shooting range, referred to as the Mohave Valley or Tri-State Shooting Range, has been proposed by the Arizona Department of Game and Fish (AZDGF) and would be constructed after BLM amends its land use plan to allow for the disposal and transfers ownership of the proposed land to AZDGF through a patent issued under the Recreation and Public Purposes Act. The land use plan amendment, transfer of land, and construction of the shooting range is the undertaking that has been the subject of Section 106 review and will be the subject of the ACHP formal comments. Consultation on the undertaking has not resulted in an agreement on the resolution of the effects, and BLM has determined that further consultation would be unproductive. BLM has notified the ACHP that it is terminating consultation and requesting ACHP comment as provided in regulation 36 CFR 800.7(a)(1). Following the 45-day comment period, the ACHP will provide its comments to the director of BLM by November 3, 2008.

Affected Historic Properties

Boundary Cone Butte is a geologic promontory located in the western foothills of the Black Mountain Range, Mohave County, Arizona. Several Indian tribes attach religious and cultural significance to the butte as well as much of the surrounding landscape. In March 2006, the BLM determined and the Arizona State Historic Preservation Officer (AZ SHPO) concurred that Boundary Cone Butte is eligible for inclusion on the National Register of Historic Places for its associative values (National Register Criteria A and B) as a property of traditional, religious, and cultural importance to several Indian tribes. The determination of eligibility was limited to Boundary Cone Butte and did not encompass any of the associated landscape of the Mohave Valley or other landscape features to which Indian tribes may also attach religious and cultural significance. BLM has found that this undertaking will have an adverse effect on Boundary Cone Butte. Effects to Boundary Cone Butte, which is located approximately two miles to the east, include visual, auditory, and other impacts, and there are direct impacts to the broader surrounding landscape to which Indian tribes attach cultural and religious significance.

History of Consultation

In October 2002, AZDFG submitted a land use application under the Recreation and Public Purposes Act requesting the transfer of land through patent for the purpose of constructing a shooting range. Soon after, BLM began consultation through National Environmental Policy Act (NEPA) on the proposal to authorize the AZDGF to build the proposed Mohave Valley Shooting Range, which also required an amendment to the land use plan to allow for the disposal. After considering several other locations, BLM identified two alternatives, the Boundary Cone Road and Willow Road alternatives. Several years of consultation between the BLM, Indian tribes, and local community organizations within the NEPA process followed, including a formal Alternative Dispute Resolution (ADR) process with the tribes and other parties that ended in 2005. The BLM determined that the undertaking had the potential to cause adverse effects to a property of cultural and religious significance to several Native American tribes. In March 2006, in consultation with the AZ SHPO, BLM formally determined the Boundary Cone Butte eligible for the NRHP and began consultation to resolve effects. The BLM also invited the AZ SHPO and the ACHP to formally consult on the undertaking in August 2006.

In March 2007, BLM identified the Boundary Cone alternative as the only viable location for the proposed shooting range in part due to access issues with the Willow Road location. In April 2007, BLM held a field visit attended by representatives of the ACHP, SHPO, AZDGF, Hualapai Tribe, Fort Mojave Tribe, proponents, and others. Tribal representatives noted early in the process and again at the field visit the role of the Boundary Cone Butte, the sacred landscape of the broader Mojave Valley, and the adverse effects that would occur to these places if a shooting range were constructed at the Boundary Cone Road location. They asserted that mitigation measures cannot mitigate the damage to their places of religious and cultural significance that would occur as the result of constructing a shooting range at this location. On September 18, 2008, BLM notified the ACHP of its decision to terminate consultation and seek the formal comments from the ACHP on this undertaking.

Again, the ACHP seeks public input on those formal comments that it will send to the BLM.

Authority: 16 U.S.C. 470s.

Dated: October 8, 2008.
John M. Fowler,
Executive Director.

[FR Doc. E8-24676 Filed 10-16-08; 8:45 am]

BILLING CODE 4310-K6-P